FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011383-044.

Title: Venezuelan Discussion Agreement.

Parties: Hamburg-Süd; King Ocean Service de Venezuela; Mediterranean Shipping Company S.A.; Seaboard Marine Ltd., and SeaFreight Line, Ltd.

Filing Party: Wayne R. Rohde, Esq.; Sher & Blackwell LLP; 1850 M Street, NW.; Suite 900; Washington, DC 20036.

Synopsis: The amendment deletes Compania Sud Americana de Vapores S.A. as a party to the agreement.

Agreement No.: 200317-004.

Title: Tampa Port Authority and Tampa Bay International Terminals, Inc. Operating Agreement.

Parties: Tampa Bay International Terminals, Inc. and Tampa Port Authority.

Filing Parties: Greg Lovelace, Director Cargo & Cruise Marketing; Tampa Port Authority; 1101 Channelside Drive; Tampa, FL 33602.

Synopsis: The amendment extends the agreement through May 29, 2046.

Agreement No.: 201206.

Title: Port of Philadelphia Marine Terminal Association, Inc.

Parties: Delaware River Stevedores, Inc.; The Port of Philadelphia & Camden; and South Jersey Port Corporation.

Filing Party: Francis X. Scanlan, Esq.; Scanlan and Scanlan; Post Office Box 120; Bryn Mawr, PA 19010.

Synopsis: The agreement updates and replaces the parties' previous agreement under FMC Agreement No. 008425.

By Order of the Federal Maritime Commission.
Dated: April 30, 2010.
Rachel E. Dickon,
Assistant Secretary.

[FR Doc. 2010-10517 Filed 5-4-10; 8:45 am]

BILLING CODE 6730-01-P